DEPARTMENT OF THE INTERIOR

Bureau of Ocean Energy Management, Regulation and Enforcement

Outer Continental Shelf, Alaska OCS Region, Chukchi Sea Planning Area, Oil and Gas Lease Sale 193

AGENCY: Bureau of Ocean Energy Management, Regulation and Enforcement (BOEMRE), Interior.

ACTION: Notice of availability of a Revised Draft Supplemental Environmental Impact Statement (SEIS) and public hearings.

SUMMARY: BOEMRE announces the availability of a Revised Draft SEIS, OCS Oil and Gas Lease Sale 193, Chukchi Sea, Alaska (OCS EIS/EA BOEMRE 2010-034) for public review and comment, as well as the date, location, and time for public hearings.

BOEMRE prepared this Revised Draft SEIS pursuant to the National Environmental Policy Act of 1969 (NEPA), as amended, 42 U.S.C. 4321 et seq., the Council on Environmental Quality (CEQ) regulations that implement the procedural provisions of NEPA (40 CFR parts 1500-1508), and the July 21, 2010, remand order issued by the United States District Court for the District of Alaska. The Revised Draft SEIS augments the analysis of the Final EIS, Oil and Gas Lease Sale 193, Chukchi Sea Planning Area (OCS EIS/EA MMS 2007-026).

FOR FURTHER INFORMATION CONTACT: Ms. Sharon Warren or Mr. Mike Routhier, BOEMRE, Alaska OCS Region, 3801 Centerpoint Drive, Suite 500, Anchorage, Alaska 99503-5820. You may also contact Ms. Warren or Mr. Routhier by telephone at 907-334-5200.

SUPPLEMENTARY INFORMATION: In May 2007, BOEMRE (formerly Minerals Management Service) published the Final EIS for Oil and Gas Lease Sale 193, Chukchi Sea (OCS EISIEA MMS 2007-0026) that evaluated the potential effects of the proposed sale and three alternatives: A no action alternative and two alternatives that incorporate deferral areas of varying size along the coastward edge of the proposed sale area.

On January 31, 2008, a lawsuit challenging Oil and Gas Lease Sale 193, Chukchi Sea alleging violations pursuant to NEPA and the Endangered Species Act was filed with the U.S. District Court for the District of Alaska [Native Village of Point Hope et al., v. Salazar, No. 1:08-cv-00004-RRB (D. Alaska)]. The sale was conducted in February 2008. BOEMRE received high bids totaling approximately $2.6 billion and 487 leases were issued.

In July 2010, the District Court remanded the matter for further NEPA analysis in accordance with its order. The District Court amended this order in August 2010. The District Court directed BOEMRE to address three concerns: (1) Analyze the environmental impact of natural gas development; (2) determine whether missing information identified by BOEMRE in the Final EIS for Chukchi Sea Lease Sale 193 was essential or relevant under 40 CFR 1502.22; and (3) determine whether the cost of obtaining the missing information was exorbitant, or the means of doing so unknown.

BOEMRE completed a Draft SEIS addressing each of these concerns, published the Draft SEIS for public comment on October 15, 2010, and provided a 45-day comment period. BOEMRE received over 150,000 comments on the Draft SEIS. Citing the Deepwater Horizon oil spill, many commenters requested an analysis that takes into account the possibility of a blowout and oil spill during exploration. After reviewing those comments, BOEMRE has determined that it is appropriate to provide analysis of a very large oil spill (VLOS) from a hypothetical exploration well blowout. The VLOS analysis is presented in the Revised Draft SEIS along with the analysis of those issues on remand.

The Final Supplemental EIS will provide the Secretary with sufficient information and analyses to make an informed decision on whether to affirm, modify, or cancel Oil and Gas Lease Sale 193, Chukchi Sea.

Revised Draft Supplemental EIS Availability: To obtain a copy of the Revised Draft SEIS, you may contact BOEMRE, Alaska OCS Region, 3801 Centerpoint Drive, Suite 500, Anchorage, Alaska 99503-5820, telephone 907-334-5200. You may also view the Revised Draft SEIS at the above address, on the BOEMRE Web site at http://alaska.boemre.gov, or at the Alaska Resources Library and Information Service, 3211 Providence Drive, Suite III, Anchorage, Alaska.

Public Comments: Interested parties may submit their written comments on the Revised Draft SEIS, Lease Sale 193, Chukchi Sea until July 11, 2011 in one of the following two ways:

1. Mail or Delivery: In written form enclosed in an envelope labeled “Comments on Revised Draft SEIS, Lease Sale 193 Chukchi Sea” to the Regional Director, Bureau of Ocean Energy Management, Regulation and Enforcement, Alaska OCS Region, 3801 Centerpoint Drive, Suite 500, Anchorage, Alaska 99503-5820.

2. Federal eRulemaking Portal: Go to http://www.regulations.gov.

BOEMRE will consider comments received by either of the two above methods during the comment period in preparing the Final SEIS. BOEMRE encourages commenters to submit substantive comments on whether the proposed action should go forward. BOEMRE cautions that, before including your address, phone number, e-mail address, or other personal identifying information in your comment, you should be aware that your entire comment, including your personal identifying information, may be made publicly available at any time. While you may ask BOEMRE (prominently at the beginning of your submission) to withhold your personal identifying information from public view, BOEMRE cannot guarantee that it will be able to do so. BOEMRE will not consider anonymous comments.

Public Hearings: BOEMRE will conduct public hearings at which government agencies, private-sector organizations, Alaska Native Tribes, and individuals are invited to present oral and written comments on the Revised Draft SEIS, Lease Sale 193 Chukchi Sea. Oral comments on the Revised Draft SEIS will be accepted verbatim only during the public hearing. Public hearings on the Revised Draft SEIS will be held as follows:

Tuesday June 21, 2011, Community Center, Kotzebue, Alaska.

Wednesday June 22, 2011 City Qalgi Center, Point Hope, Alaska.

Thursday June 23, 2011, Point Lay Community Center, Point Lay, Alaska.

Friday June 24, 2011, Robert James Community Center, Wainwright, Alaska.

Monday June 27, 2011, Inupiat Heritage Center, Barrow, Alaska; and

Wednesday June 29, 2011, Wilda Marston Theater, Anchorage, Alaska.

All meetings will start at 7 p.m.

Dated: May 5, 2011.
Robert P. LaBelle,
Acting Associate Director for Offshore Energy and Minerals Management.

[FR Doc. 2011-12720 Filed 5-26-11; 8:45 am]

BILLING CODE 4310-MR-P